DEPARTMENT OF HOMELAND SECURITY

Coast Guard

33 CFR Part 100

[Docket No. USCG-2021-0205]

Special Local Regulation: Seminole Hard Rock Winterfest Holiday Boat Parade

AGENCY: Coast Guard, DHS.

ACTION: Notice of enforcement of regulation.

SUMMARY: The Coast Guard will enforce a special local regulation on December 11, 2021, from 2:30 p.m. through 11:30 p.m. to provide for the safety and security of certain navigable waterways during the Seminole Hard Rock Winterfest Holiday Boat Parade. All non-participant persons and vessels will be prohibited from entering, transiting, anchoring, or remaining within the regulated area during the enforcement period unless authorized by the Captain of the Port Miami or a designated representative. The operator of any vessel in the regulated area must comply with instructions from the Coast Guard or designated representative.

DATES: The regulation in 33 CFR 100.702, Table 1 to § 100.702, Line 11, will be enforced on December 11, 2021, from 2:30 p.m. through 11:30 p.m.

FOR FURTHER INFORMATION CONTACT: If you have questions about this notice of enforcement, call or email Mr. Omar Beceiro, Sector Miami Waterways Management Division, U.S. Coast Guard: Telephone: 305-535-4317, Email: Omar.Beceiro@uscg.mil.

SUPPLEMENTARY INFORMATION: The Coast Guard will enforce a special local regulation for the Seminole Hard Rock Winterfest Holiday Boat Parade published in 33 CFR 100.702, Table 1 to § 100.702, Line 11 on December 11, 2021, from 2:30 p.m. through 11:30 p.m. This action is being taken to provide for the safety and security of certain navigable waters of the Intracoastal Waterway during this one-day event. Our regulation for marine events within the Seventh Coast Guard District, § 100.702, specifies the location of the special local regulation for the Seminole Hard Rock Winterfest Holiday Boat Parade, which includes a moving buffer zone of 50 yards around the parade as it travels along the New River and Intracoastal Waterway in Ft. Lauderdale, FL. Only event sponsor designated participants and official patrol vessels may enter the regulated area. Spectator vessels may contact the Coast Guard Patrol Commander to request permission to pass through the regulated area. If granted permission, vessels must pass directly through the regulated area at a safe speed without loitering.

In addition to this notice of enforcement in the Federal Register. the Coast Guard will inform the public through Local Notice to Mariners and marine information broadcasts at least 24 hours in advance of the enforcement of the special local regulation.

Dated: November 11, 2021.
J.F. Burdian,
Captain, U.S. Coast Guard,Captain of the Port Miami.

[FR Doc. 2021-25149 Filed 11-17-21; 8:45 am]

BILLING CODE 9110-04-P